DEPARTMENT OF THE INTERIOR

Bureau of Reclamation

Notice of Realty Action—Competitive Bulk Sale of Federal Land

AGENCY: Bureau of Reclamation, Interior.

ACTION: Notice of realty action, competitive bulk sale of federal land.

SUMMARY: The tracts of land described below have been identified for sale and transfer out of Federal ownership under the Public Law 105-277 Title X-Canyon Ferry Reservoir, Montana Act of October 22, 1998, as amended November 29, 1999, and October 27, 2000. The purpose of this notice is to solicit letters of interest from parties wishing to bid on and to purchase 265 recreation home sites at Canyon Ferry Reservoir, Montana.

DATES: For a period of 90 days from the publication of this notice in the Federal Register, interested parties may request notification of future sale dates, and may request a copy of the bid package from the Montana Area Office, Bureau of Reclamation.

ADDRESSES: Address all requests concerning this notice to Montana Area Office, Bureau of Reclamation, Attention: Susan Stiles, Realty Specialist, P.O. Box 30137, Billings, MT 59107-0137.

FOR FURTHER INFORMATION CONTACT: Susan Stiles at (406) 247-7316.

SUPPLEMENTARY INFORMATION: The subject property is located along the north half of the east and west shores of Canyon Ferry Reservoir, about 20 miles east of Helena, Montana. The property is described as cabin site Lots 1 through 36, Lots 38 through 266, and drainfield and septic site lots D-1 through D-8, Sections 2, 11, 12, 13, 15, 22, 23, 26, Township 10 North, Range 1 West, P.M., Canyon Ferry Reservoir, Lewis and Clark County, Montana, comprising approximately 163.73 acres, more or less. The Bureau of Reclamation currently leases these lots out for seasonal cabin site use to private parties.

On October 21, 1998, Title X of Public Law 105-277, The Canyon Ferry Reservoir, Montana Act, required that the Secretary of Interior sell, for the appraised fair market value, 265 cabin sites located at Canyon Ferry Reservoir to private parties. It is anticipated that the appraisal of the cabin sites will be completed by the end of 2001, and that the Bureau of Reclamation will offer the cabin sites for sale in Spring 2002. Interested parties will be informed of the exact sale dates once they have been established.

As required by the Canyon Ferry Reservoir, Montana Act, the cabin sites will initially be offered as an entire block of land to the highest bidder, which requires a prospective buyer to purchase all 265 cabin sites at not less than their appraised fair market value. In addition to the sale price, the purchaser will also be required to reimburse the Bureau of Reclamation for all its administrative costs in connection with the sale process. Included in the bid package, interested parties will receive instructions in how to submit their sealed bids to the Bureau of Reclamation, the amount of the minimum bid required (appraised value), an estimate of the administrative costs to be paid, along with other pertinent sales information.

Pursuant to the Canyon Ferry Reservoir, Montana Act, the Canyon Ferry Recreation Association (CFRA) shall have the right to match the highest bid and purchase the properties at a price equal to the amount of the highest bid. If CFRA does not match the highest bid, then the Canyon Ferry Reservoir, Montana Act requires that the cabin sites be sold to the high bidder. The purchaser is then required by the Canyon Ferry Reservoir, Montana Act to give each cabin site lessee an option either to purchase their cabin site at its appraised fair market value, or to continue leasing their cabin site from the purchaser up through August 2014. As a condition to the bulk sale, it will be the sole responsibility of the successful bidder to negotiate the sale or lease of the individual tracts to the current lessees.

In the event there is not a qualified high bidder, then Reclamation will offer to sell the cabin sites to the current lessees at their fair market value, at a later date as determined by the Bureau of Reclamation. The Bureau of Reclamation may at any time during the course of the sale, accept or reject any and all offers, or remove any land or interest in land from the sale at its sole discretion.

Resource clearances consistent with the National Environment Policy Act requirements have been completed. An Environmental Assessment pertaining to the proposed sale is available upon request from the Montana Area Office. The patent and quitclaim deed issued for the land sold will be subject to easement or rights-of-way existing or of record in favor of the public or third parties, as well as the condition set forth in the Canyon Ferry Reservoir, Montana Act, and mineral and other reservations by the United States.

Easements granted—The purchaser(s) will be granted easements for: (A) Vehicular access to each lot, (B) access to and use of 1 dock per lot, and (C) access to and use of all boathouses, ramps, retaining walls, and other improvements for which access is provided in the leases as of the date of enactment of the Canyon Ferry Reservoir, Montana Act.

Improvements—Each cabin site is encumbered with a cabin or home, and may include other structures such as sheds, garages, boathouses, fences, retaining walls, wells, and septic systems. These improvements are privately owned by the current lessees and therefore not included in the fair market value of the property and they are not included in this sale. The United States and the Bureau of Reclamation, hereby absolves itself of any responsibility or liability of any nature whatsoever in connection with said improvements which are owned by the current lessees.

Dated: October 3, 2001.
Susan Kelly,
Area Manager, Montana Area Office, Bureau of Reclamation.

[FR Doc. 01-26308 Filed 10-17-01; 8:45 am]

BILLING CODE 4310-MN-M